DEPARTMENT OF LABOR

Employment and Training Administration

[TA-W-81,264]

Phillips-Van Heusen Corporation, Izod Women's Wholesale Division, New York, NY; Notice of Affirmative Determination Regarding Application for Reconsideration

By application dated May 14, 2012, a worker requested administrative reconsideration of the negative determination regarding workers' eligibility to apply for Trade Adjustment Assistance (TAA) applicable to workers and former workers of Phillips-Van Heusen Corporation, Izod Women's Wholesale Division, New York, New York (subject firm). The determination was issued on April 6, 2012. The Department's Notice of Determination was published in the Federal Register on April 19, 2012 (77 FR 23511).

The initial investigation resulted in a negative determination based on the findings that with respect to Section 222(a)(2)(A)(ii) of the Act, imports of services like or directly competitive with the design, sourcing, and sales services supplied by the subject firm has not increased.

With respect to Section 222(a)(2)(B) of the Act, the investigation revealed that the subject firm did not shift the supply of design, sourcing, and sales services to a foreign country (or like or directly competitive services) or acquire the supply of design, sourcing, and sales services (or like or directly competitive services) from a foreign country.

With respect to Section 222(b)(2) of the Act, the investigation revealed that Phillips-Van Heusen Corporation is not a Supplier or Downstream Producer to a firm that employed a group of workers who received a certification of eligibility under Section 222(a) of the Act, 19 U.S.C. 2272(a).

In the request for reconsideration, the petitioner supplied new information regarding the worker group as well as a possible shift in services to a foreign country.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 21st day of May, 2012
Del Min Amy Chen,
Certifying Officer, Office of Trade Adjustment Assistance.

[FR Doc. 2012-13592 Filed 6-5-12; 8:45 am]

BILLING CODE 4510-FN-P